SMALL BUSINESS ADMINISTRATION

[License No. 04/04-0296]

KLH Capital, L.P.; Notice Seeking Exemption Under 312 of the Small Business Investment Act, Conflicts of Interest

Notice is hereby given that KLH Capital, L.P., 101 East Kennedy Boulevard, Suite 3925, Tampa, Florida 33602, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2006)). KLH Capital, L.P. proposes to provide financing to Bell'O International Corporation, 500 N. Westshore Blvd., Suite 450, Tampa, FL 33609. The financing is contemplated for expansion, product development, and working capital.

The financing is brought within the purview of Sec. 107.730 (a)(1) of the Regulations because Mr. P. Jeffrey Lech, a Manager and General Partner of KLH Capital, L.P., currently owns greater than 10 percent of Bell'O International Corporation, and therefore, Bell'O International Corporation, is considered an Associate of KLH Capital, L.P. as defined in Sec. 105.50 of the regulations.

Notice is hereby given that any interested person may submit written comments on the transaction, within 15 days, to the Associate Administrator for Investment, U.S. Small Business Administration, 409 Third Street, SW., Washington, DC 20416.

Sean J. Greene,
Associate Administrator For Investment.

[FR Doc. 2010-999 Filed 1-20-10; 8:45 am]

BILLING CODE 8025-01-P